ELECTION ASSISTANCE COMMISSION

Sunshine Act Notice

AGENCY: United States Election Assistance Commission.

ACTION: Notice of public meeting.

DATES AND TIME: Thursday, June 30, 2005, 9:30 a.m.-10:30 a.m.

PLACE: New York Marriott Marquis, 1535 Broadway, 16th Floor Sky Lobby, New York, NY 10036, (212) 398-1900, (Subway Stop: MTA 42nd Street).

AGENDA: The Commission will receive reports on the following: Title II Requirements Payments; Proposed Voluntary Voting System Guidelines; Statewide Voter Registration List Guidance and updates on other administrative matters.

This meeting will be open to the public.

PERSON TO CONTACT FOR INFORMATION: Bryan Whitener, Telephone: (202) 566-3100.

Carol A. Paquette,
Interim Executive Director, U.S. Election Assistance Commission.

[FR Doc. 05-11844 Filed 6-10-05; 2:57 pm]

BILLING CODE 6820-KF-M